DEPARTMENT OF THE INTERIOR

Bureau of Indian Affairs

[DR.5B711.IA000814]

Indian Gaming

AGENCY: Bureau of Indian Affairs, Interior.

ACTION: Notice of Extension of Tribal-State Class III Gaming Compact.

SUMMARY: This notice addresses the Extension of the Class III gaming compact between the Rosebud Sioux Tribe and the State of South Dakota.

DATES: Effective Date: September 15, 2014.

FOR FURTHER INFORMATION CONTACT: Paula L. Hart, Director, Office of Indian Gaming, Office of the Deputy Assistant Secretary—Policy and Economic Development, Washington, DC 20240, (202) 219-4066.

SUPPLEMENTARY INFORMATION: Pursuant to 25 CFR 293.5, an extension to an existing tribal-state Class III gaming compact does not require approval by the Secretary if the extension does not amend the terms of the compact. The Rosebud Sioux Tribe and the State of South Dakota have reached an agreement to extend the expiration of their existing Tribal-State Class III gaming compact to February 10, 2015. This notice publishes the new expiration date of the compact.

Dated: September 10, 2014.
Kevin K. Washburn,
Assistant Secretary—Indian Affairs.

[FR Doc. 2014-21931 Filed 9-12-14; 8:45 am]

BILLING CODE 4310-4N-P